DEPARTMENT OF ENERGY

Federal Energy Regulatory Commission

Combined Notice of Filings #1

Take notice that the Commission received the following exempt wholesale generator filings:

Docket Numbers: EG21-171-000.

Applicants: ES 1A Group 2 Opco, LLC.

Description: Notice of Self-Certification of Exempt Wholesale Generator Status of ES 1A Group 2 Opco, LLC.

Filed Date: 6/21/21.

Accession Number: 20210621-5087.

Comments Due: 5 p.m. ET 7/12/21.

Docket Numbers: EG21-172-000.

Applicants: Edwards Sanborn Storage I, LLC.

Description: Notice of Self-Certification of Exempt Wholesale Generator Status of Edwards Sanborn Storage I, LLC.

Filed Date: 6/21/21.

Accession Number: 20210621-5088.

Comments Due: 5 p.m. ET 7/12/21.

Docket Numbers: EG21-173-000.

Applicants: ES 1A Group 3 Opco, LLC.

Description: Notice of Self-Certification of Exempt Wholesale Generator Status of ES 1A Group 3 Opco, LLC.

Filed Date: 6/21/21.

Accession Number: 20210621-5090.

Comments Due: 5 p.m. ET 7/12/21.

Docket Numbers: EG21-174-000.

Applicants: Edwards Solar Line I, LLC.

Description: Notice of Self-Certification of Exempt Wholesale Generator Status of Edwards Solar Line I, LLC.

Filed Date: 6/21/21.

Accession Number: 20210621-5093.

Comments Due: 5 p.m. ET 7/12/21.

Docket Numbers: EG21-175-000.

Applicants: Prairie Wolf Solar, LLC.

Description: Notice of Self-Certification of Exempt Wholesale Generator Status of Prairie Wolf Solar, LLC.

Filed Date: 6/21/21.

Accession Number: 20210621-5094.

Comments Due: 5 p.m. ET 7/12/21.

Docket Numbers: EG21-176-000.

Applicants: Daylight I, LLC.

Description: Notice of Self-Certification of Exempt Wholesale Generator Status of Daylight I, LLC.

Filed Date: 6/21/21.

Accession Number: 20210621-5095.

Comments Due: 5 p.m. ET 7/12/21.

Docket Numbers: EG21-177-000.

Applicants: Sanborn Solar Line I, LLC.

Description: Notice of Self-Certification of Exempt Wholesale Generator Status of Sanborn Solar Line I, LLC.

Filed Date: 6/21/21.

Accession Number: 20210621-5097.

Comments Due: 5 p.m. ET 7/12/21.

Docket Numbers: EG21-178-000.

Applicants: Edwards Sanborn Storage II, LLC.

Description: Notice of Self-Certification of Exempt Wholesale Generator Status of Edwards Sanborn Storage II, LLC.

Filed Date: 6/21/21.

Accession Number: 20210621-5098.

Comments Due: 5 p.m. ET 7/12/21.

Take notice that the Commission received the following electric rate filings:

Docket Numbers: ER10-2564-011; ER10-2600-011; ER10-2289-011.

Applicants: Tucson Electric Power Company, UNS Electric, Inc., UniSource Energy Development Company.

Description: Notice of Non-Material Change in Status of Tucson Electric Power Company, et al.

Filed Date: 6/21/21.

Accession Number: 20210621-5165.

Comments Due: 5 p.m. ET 7/12/21.

Docket Numbers: ER13-1508-007.

Applicants: Entergy Arkansas, Inc.

Description: Compliance filing: EAI MSS-4 Replacement Tariff—Opinion 575 compliance filing to be effective 12/19/2013.

Filed Date: 6/22/21.

Accession Number: 20210622-5000.

Comments Due: 5 p.m. ET 7/13/21.

Docket Numbers: ER13-1667-005.

Applicants: Battery Utility of Ohio, LLC.

Description: Response to May 27, 2021 Deficiency Letter of Battery Utility of Ohio, LLC.

Filed Date: 6/21/21.

Accession Number: 20210621-5156.

Comments Due: 5 p.m. ET 7/12/21.

Docket Numbers: ER21-223-002.

Applicants: Union Electric Company.

Description: Tariff Amendment: Amendment to Rate Schedule No. 22 to be effective 12/29/2020.

Filed Date: 6/22/21.

Accession Number: 20210622-5036.

Comments Due: 5 p.m. ET 7/13/21.

Docket Numbers: ER21-1510-001.

Applicants: Midcontinent Independent System Operator, Inc., Big Rivers Electric Corporation.

Description: Tariff Amendment: 2021-06-21_BREC Deficiency Response re Attachment O Filing to be effective 6/1/2021.

Filed Date: 6/21/21.

Accession Number: 20210621-5026.

Comments Due: 5 p.m. ET 7/12/21.

Docket Numbers: ER21-1637-001.

Applicants: ISO New England Inc.

Description: Compliance filing: ISO-NE; Compliance Filing to Conform Tariff to Commission Acceptance of ORTP to be effective 6/8/2021.

Filed Date: 6/22/21.

Accession Number: 20210622-5027.

Comments Due: 5 p.m. ET 7/13/21.

Docket Numbers: ER21-2169-000.

Applicants: Entergy Arkansas, LLC.

Description: § 205(d) Rate Filing: EAL-MSS-4 Replacement Tariff-Opinion 575 compliance filing to be effective 11/30/2018.

Filed Date: 6/21/21.

Accession Number: 20210621-5099.

Comments Due: 5 p.m. ET 7/12/21.

Docket Numbers: ER21-2170-000.

Applicants: PJM Interconnection, L.L.C.

Description: § 205(d) Rate Filing: Amendment to Service Agreement No. 5498; Queue No. AE1-074 to be effective 10/14/2019.

Filed Date: 6/22/21.

Accession Number: 20210622-5018.

Comments Due: 5 p.m. ET 7/13/21.

Docket Numbers: ER21-2171-000.

Applicants: York Generation Company LLC.

Description: Tariff Cancellation: Notice of Cancellation to be effective 9/20/2021.

Filed Date: 6/22/21.

Accession Number: 20210622-5022.

Comments Due: 5 p.m. ET 7/13/21.

Docket Numbers: ER21-2172-000.

Applicants: Daylight I, LLC.

Description: § 205(d) Rate Filing: Amended and Restated Facilities Use Agreements to be effective 6/23/2021.

Filed Date: 6/22/21.

Accession Number: 20210622-5023.

Comments Due: 5 p.m. ET 7/13/21.

Docket Numbers: ER21-2173-000.

Applicants: Midcontinent Independent System Operator, Inc.

Description: § 205(d) Rate Filing: 2021-06-22_Att X GIP and GIA Option to Build Filing to be effective 8/22/2021.

Filed Date: 6/22/21.

Accession Number: 20210622-5030.

Comments Due: 5 p.m. ET 7/13/21.

Docket Numbers: ER21-2174-000.

Applicants: Edwards Solar Line I, LLC.

Description: § 205(d) Rate Filing: Certificates of Concurrence for Amended and Restated Facilities Use Agreements to be effective 6/23/2021.

Filed Date: 6/22/21.

Accession Number: 20210622-5031.

Comments Due: 5 p.m. ET 7/13/21.

Docket Numbers: ER21-2175-000.

Applicants: PJM Interconnection, L.L.C.

Description: § 205(d) Rate Filing: Original WMPA, Service Agreement No. 6099; Queue No. AG1-063 to be effective 6/17/2021.

Filed Date: 6/22/21.

Accession Number: 20210622-5033.

Comments Due: 5 p.m. ET 7/13/21.

Docket Numbers: ER21-2176-000.

Applicants: Southwest Power Pool, Inc.

Description: § 205(d) Rate Filing: Tariff Clean-Up Filing Effective 20210805 to be effective 8/5/2021.

Filed Date: 6/22/21.

Accession Number: 20210622-5034.

Comments Due: 5 p.m. ET 7/13/21.

Docket Numbers: ER21-2177-000.

Applicants: Sanborn Solar Line I, LLC.

Description: § 205(d) Rate Filing: Certificate of Concurrence for Amended and Restated Facilities Use Agreement to be effective 6/23/2021.

Filed Date: 6/22/21.

Accession Number: 20210622-5043.

Comments Due: 5 p.m. ET 7/13/21.

Docket Numbers: ER21-2178-000.

Applicants: Sanborn Solar Line I, LLC.

Description: Tariff Cancellation: Notice of Cancellation of Certificate of Concurrence to be effective 6/23/2021.

Filed Date: 6/22/21.

Accession Number: 20210622-5044.

Comments Due: 5 p.m. ET 7/13/21.

Docket Numbers: ER21-2179-000.

Applicants: Oliver Wind I, LLC.

Description: Baseline eTariff Filing: Reactive Power Compensation Filing to be effective 7/31/2021.

Filed Date: 6/22/21.

Accession Number: 20210622-5045.

Comments Due: 5 p.m. ET 7/13/21.

Docket Numbers: ER21-2180-000.

Applicants: Antelope Expansion 1B, LLC.

Description: § 205(d) Rate Filing: Antelope Expansion 1B, LLC LGIA Co-Tenancy Agreement Certificate of Concurrence to be effective 7/1/2021.

Filed Date: 6/22/21.

Accession Number: 20210622-5055.

Comments Due: 5 p.m. ET 7/13/21.

Docket Numbers: ER21-2181-000.

Applicants: Antelope Expansion 1B, LLC.

Description: § 205(d) Rate Filing: Antelope Expansion 1B, LLC MISA Certificate of Concurrence to be effective 7/1/2021.

Filed Date: 6/22/21.

Accession Number: 20210622-5060.

Comments Due: 5 p.m. ET 7/13/21.

Take notice that the Commission received the following qualifying facility filings:

Docket Numbers: QF18-1635-000.

Applicants: Ag Land Energy 1, LLC.

Description: Refund Report of Ag Land Energy 1, LLC.

Filed Date: 6/18/21.

Accession Number: 20210618-5104.

Comments Due: 5 p.m. ET 7/9/21.

Docket Numbers: QF18-1636-000.

Applicants: Ag Land Energy 2, LLC.

Description: Refund Report of Ag Land Energy 2, LLC.

Filed Date: 6/18/21.

Accession Number: 20210618-5105.

Comments Due: 5 p.m. ET 7/9/21.

Docket Numbers: QF18-1637-000.

Applicants: Ag Land Energy 3, LLC.

Description: Refund Report of Ag Land Energy 3, LLC.

Filed Date: 6/18/21.

Accession Number: 20210618-5106.

Comments Due: 5 p.m. ET 7/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Debbie-Anne A. Reese,
Deputy Secretary.

[FR Doc. 2021-13749 Filed 6-25-21; 8:45 am]

BILLING CODE 6717-01-P